DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2004-2006 Annual Survey of Manufactures (ASM).

Form Number(s): MA-10000(L), MA-10000(S), MA10000(F1).

Agency Approval Number: 0607-0449.

Type of Request: Revision of a currently approved collection.

Burden: 186,200 hours.

Number of Respondents: 55,000.

Avg Hours Per Response: MA-10000(L)—3.58 hours, MA-10000(S)—1.38 hours, MA10000(F1)—1.2 minutes.

Needs and Uses: The Census Bureau requests a revision of the currently approved collection for the Annual Survey of Manufactures (ASM). The Census Bureau has conducted the ASM since 1949 to provide key measures of manufacturing activity during intercensal periods. In census years ending in “2” and “7,” we mail and collect the ASM as part of the Economic Census Covering the Manufacturing Sector. The content of the questionnaires for the 2004-06 ASM is identical to the 2003 ASM report form.

The ASM furnishes up-to-date estimates of employment and payrolls, hours and wages of production workers, value added by manufacture, cost of materials, value of shipments by class of product, inventories, and expenditures for new and used plant and equipment. The survey provides data for most of these items for all 5-digit and selected 6-digit industries as defined in the North American Industry Classification System (NAICS). We also provide geographic data by state at a more aggregated industry level.

The ASM statistics are based on a survey that includes both mail and nonmail components. Previously, the mail portion of the survey was comprised of a probability sample of approximately 55,000 manufacturing establishments from a frame of approximately 225,000 establishments. These 225,000 establishments were all manufacturing establishments of multiunit companies (companies with operations at more than one location) and all single-location manufacturing companies that were mailed in the 1997 Economic Census Covering the Manufacturing Sector. The nonmail component was comprised of the remaining small single-location companies; approximately 155,000 companies. No data have been collected from companies in the nonmail component. Rather, data have been directly obtained from the administrative records of the Internal Revenue Service (IRS), the Social Security Administration (SSA), and the Bureau of Labor Statistics (BLS). Although the nonmail companies account for over half of the population, they have accounted for less than 2 percent of the manufacturing output.

For the 2004-2006 cycles of the ASM we are considering changing the threshold we use for the nonmail component. We are studying the potential impact on the data of using administrative record data for a larger portion of the estimate. Based on the results of that work, we may increase the size of the nonmail component by up to as many as 75,000 establishments. The contribution of the nonmail component will expand to as much as 10 percent, but will be not less than 2 percent.

For the 2004-06 ASM, we will include an Ownership or Control flier in the mail out package of approximately 15,000 single-establishment firms in the ASM sample. This flier was used for the 2002 Economic Census, now we will use it for the ASM. In prior censuses and ASMs these questions were included as part of the questionnaires and used to determine if single-establishment firms were either owned or controlled by another company or if they operated at more than one location.

This survey is an integral part of the Government's statistical program. Its results provide a factual background for decision making by the executive and legislative branches of the Federal Government. Federal agencies use the annual survey's input and output data as benchmarks for their statistical programs, including the Federal Reserve Board's Index of Industrial Production and the Bureau of Economic Analysis' estimates of the gross domestic product (GDP). The data also provide the Department of Energy with primary information on the use of energy by the manufacturing sector to produce manufactured products. These data also are used as benchmark data for the Manufacturing Energy Consumption Survey (MECS), which is conducted for the Department of Energy by the Census Bureau. The Department of Commerce uses the exports of manufactured products data to measure the importance of exports to the manufacturing economy of each state. Within the Census Bureau, the ASM data are used to benchmark and reconcile monthly and quarterly data on manufacturing production and inventories. The ASM is the only source of complete establishment statistics for the programs mentioned above.

The survey also provides valuable information to private companies, research organizations, and trade associations. Industry makes extensive use of the annual figures on product class shipments at the U.S. level in its market analysis, product planning, and investment planning. State development/planning agencies rely on the survey as a major source of comprehensive economic data for policymaking, planning, and administration.

The Ownership or Control fliers will be used to update the Business Register, the basic sampling frame for many of our current surveys. Many of the establishments in the Census Bureau's Business Register are incorrectly identified as being single-establishment firms.

Affected Public: Business or other for-profit.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov). Written comments and recommendations for the proposed information collection should be sent within 30 days of publication of this notice to Susan Schechter, OMB Desk Officer either by fax (202-395-7245) or e-mail (susan_schechter@omb.eop.gov).

Dated: September 10, 2004.
Madeleine Clayton,
Management Analyst, Office of the Chief Information Officer.

[FR Doc. 04-20776 Filed 9-14-04; 8:45 am]

BILLING CODE 3510-07-P